DEPARTMENT OF THE INTERIOR

Bureau of Land Management

[AK-910-1310PP-ARAC]

Notice of Public Meeting, BLM-Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council will meet as indicated below.

DATES: The meeting will be held August 12, 2008, at the Wiseman Community Center, Wiseman, Alaska; Milepost 189 of the Dalton Highway. The meeting, which will provide an opportunity for residents of the Dalton Highway to meet Resource Advisory Council members and discuss local topics, will start at 2:30 p.m. and end at 4:30 p.m.

FOR FURTHER INFORMATION CONTACT: Sharon Wilson, BLM-Alaska State Office, 222 W. 7th Avenue #13, Anchorage, AK 99513. Telephone (907) 271-4418 or e-mail Sharon_Wilson@blm.gov.

SUPPLEMENTARY INFORMATION: The 15-member Council advises the Secretary of the Interior, through the Bureau of Land Management, on a variety of planning and management issues associated with public land management in Alaska. At this meeting, BLM District Managers will give updates on district activities and the status of resource management planning, discuss local issues introduced by residents of the area and receive public comment on BLM-related matters.

Depending on the number of people wishing to comment and time available, the time for individual oral comments may be limited, so please be prepared to submit written comments if necessary. Before including your address, phone number, e-mail address, or other personal identifying information in your comment, you should be aware that your entire comment—including your personal identifying information—may be made publicly available at any time. While you can ask us in your comment to withhold your personal identifying information from public review, we cannot guarantee that we will be able to do so.

Individuals who plan to attend and need special assistance, such as sign language interpretation, transportation, or other reasonable accommodations, should contact BLM.

Dated: July 7, 2008.
Thomas P. Lonnie,
State Director.

[FR Doc. E8-15772 Filed 7-10-08; 8:45 am]

BILLING CODE 4310-JA-P